DEPARTMENT OF ENERGY

[GDO Docket No. PP-503]

Application for Presidential Permit; Basin Electric Power Cooperative

AGENCY: Grid Deployment Office, Department of Energy.

ACTION: Notice of application.

SUMMARY: Basin Electric Power Cooperative (the Applicant or Basin Electric) has filed an application requesting a new Presidential permit to allow for the construction, connection, operation, and maintenance of facilities for transmission of electric energy at the international border between North Dakota and Saskatchewan, Canada.

DATES: Comments, protests, or motions to intervene must be submitted on or before March 15, 2024.

ADDRESSES: Comments, protests, or motions to intervene should be addressed by electronic mail to Electricity.Exports@hq.doe.gov.

FOR FURTHER INFORMATION CONTACT: Christina Gomer, (240) 474-2403, Electricity.Exports@hq.doe.gov.

SUPPLEMENTARY INFORMATION: The construction, operation, maintenance, and connection of facilities at the international border of the United States for the transmission of electric energy between the United States and a foreign country is prohibited in the absence of a Presidential permit issued by the Secretary of Energy pursuant to Executive Order (E.O.) 10485, as amended by E.O. 12038. On April 10, 2023, the authority to issue such permits was delegated to the DOE's Grid Deployment Office by Delegation Order No. S1-DEL-S3-2023 and Redelegation Order No. S3-DEL-GD1-2023.

On November 9, 2023, Basin Electric filed an application (Application or App.) with the Department of Energy (DOE) for a Presidential Permit to construct the Tande and Wheelock to Saskatchewan 230-kV Transmission Project.¹ App. at 1.

¹ On January 17, 2023, Basin Electric also filed a revised Application in response to DOE feedback on its November filing. The references to the Application in this notice reflect the latest revisions submitted by Basin Electric.

Basin Electric is an electric power generation and transmission cooperative headquartered in Bismarck, North Dakota. Id. The Applicant generates and transmits wholesale electricity to 141-member rural electric cooperatives located in a nine-state service area, which serves three million customers on their respective systems. Id.

Basin Electric's proposed project “includes two new 230-kV electric transmission lines from existing substations in North Dakota (ND) to the Canadian Border.” Id. According to the Application, Saskatchewan Power Corporation (SaskPower), “a generation and transmission provider in Saskatchewan, will construct the transmission lines from the border to a new substation in Canada, approximately five miles north of the border.” Id. The Applicant intends to route one circuit from the Wheelock substation near Ray, North Dakota, and the second circuit from Tande substation near Tioga, North Dakota. Id. Each circuit would require a separate border crossing. Id.

The Southwest Power Pool approved the project in 2022, and Basin Electric is the designated transmission owner for the upgrade in the United States. App. at 1. The project would provide export and import capabilities of up to 650 megawatts. Id.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning Basin Electric's Application should be clearly marked with Docket No. PP-503. Additional copies are to be provided directly to Anine Merkens, Staff Counsel, Basin Electric, amerkens@bepc.com; Erin Dukart, Director, Environmental Services, Basin Electric, edukart@bepc.com; and Bob Nasset, Civil Engineering, Basin Electric, rnasset@bepc.com.

Before a Presidential permit may be issued, DOE must determine whether the proposed action is in the public interest. In making that determination, DOE will consider the environmental impacts of the proposed action (i.e., granting the Presidential permit, with any conditions and limitations, or denying the permit) pursuant to DOE's National Environmental Policy Act Implementing Procedures (10 CFR part 1021); determine the Applicant's proposed project's impact on electric reliability by ascertaining whether the proposed project would adversely affect the operation of the U.S. electric power supply system under normal and contingency conditions; and weigh any other factors that DOE may also consider relevant to the public interest. DOE also must obtain the favorable recommendation of the Secretary of State and the Secretary of Defense before taking final action on a Presidential permit application.

Basin's Application may be reviewed or downloaded electronically at www.energy.gov/gdo/pending-applications-0 or by emailing Electricity.Exports@hq.doe.gov.

Signing Authority: This document of the Department of Energy was signed on February 8, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 9, 2024.
Treena V. Garrett,
Federal Register Liaison Officer, U.S. Department of Energy.

[FR Doc. 2024-03017 Filed 2-13-24; 8:45 am]

BILLING CODE 6450-01-P